NATIONAL AERONAUTICS AND SPACE ADMINISTRATION

[Notice (09-103)]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: December 11, 2009.

FOR FURTHER INFORMATION CONTACT: James J. McGroary, Patent Counsel, Marshall Space Flight Center, Mail Code LS01, Huntsville, AL 35812; telephone (256) 544-0013; fax (256) 544-0258.

NASA Case No. MFS-32761-1: Eddy Current Minimizing Flow Plug for Use in Flow Conditioning and Flow Metering;

NASA Case No. MFS-32604-1: Method and System for Control of Upstream Flowfields of Vehicle in Supersonic or Hypersonic Atmospheric Flight;

NASA Case No. MFS-32373-1: Moving-Article X-Ray Imaging System and Method for 3-D Image Generation;

NASA Case No.: MFS-32323-1: Sub-Pixel Spatial Resolution Wavefront Phase Imaging;

NASA Case No.: MFS-32615-1: Linear and/or Curvilinear Rail Mount System;

NASA Case No.: MFS-32558-1: Parallel Plate System for Collecting Data Used to Determine Viscosity.

Dated: December 4, 2009.
Richard W. Sherman,
Deputy General Counsel.

[FR Doc. E9-29544 Filed 12-10-09; 8:45 am]

BILLING CODE 7510-13-P